DEPARTMENT OF THE TREASURY

Submission for OMB Review; Comment Request

April 26, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 1, 2001 to be assured of consideration.

Bureau of Alcohol, Tobacco and Firearms (BATF)

OMB Number: 1512-0092.

Form Number: ATF F 5100.31.

Type of Review: Extension.

Description: The Federal Alcohol Administration Act regulates the labeling of alcoholic beverages and designates the Treasury Department to oversee compliance with regulations. This form is completed by the regulated industry and submitted to Treasury as an application to label their products. Treasury oversees label applications to prevent consumer deception and to deter falsification of unfair advertising practices on alcoholic beverages.

Respondents: Business or other for-profit.

Estimated Number of Recordkeepers: 8,624.

Estimated Burden Hours Per Recordkeeper: 30 minutes.

Frequency of Response Other (3 years).

Estimated Total Recordkeeping Burden: 28,565.

OMB Number: 1512-0115.

Form Number: ATF F 2140 (5220.4).

Type of Review: Extension.

Title: Monthly Report—Export Warehouse Proprietor.

Description: Proprietors who are qualified to operate export warehouses that handled untaxpaid tobacco products are required to file a monthly report. This report summarizes all transactions by the proprietor handling receipts, dispositions and on-hand quantities. The form is used for product accountability and is examined by regional office personnel.

Respondents: Business or other for-profit.

Estimated Number of Respondents: 221.

Estimated Burden Hours Per Respondent: 48 minutes.

Frequency of Response: Monthly.

Estimated Total Reporting Burden: 2,148 hours.

OMB Number: 1512-0184.

Form Number: ATF F 5400.4.

Type of Review: Extension.

Title: Explosives Transaction Record.

Description: This form is used to verify the qualification and identification of unlicensed persons wishing to purchase explosive materials from licensed dealers, as well as the location in which the explosives are intended for storage and/or use. ATF used the information in its investigations and inspections to establish leads and determine compliance.

Respondents: Business or other for-profit, Individuals or households.

Estimated Number of Respondents/Recordkeepers: 1,140.

Estimated Burden Hours Per Respondent/Recordkeeper: 20 minutes.

Frequency of Response: Other (whenever sales are made).

Estimated Total Reporting/Recordkeeping Burden: 7,227 hours.

OMB Number: 1512-0188.

Form Number: ATF F 5100.1.

Type of Review: Extension.

Title: Signing Authority for Corporate Officials.

Description: ATF F 5100.1 is substituted instead of a regulatory requirement to submit corporate documents or minutes of a meeting of the Board of Directors to authorize an individual or office to sign for the corporation in ATF matters. The form identifies the corporations, the individual or office authorized to sign, and documents to authorization.

Respondents: Business or other for-profit.

Estimated Number of Respondents: 1,000

Estimated Burden Hours Per Respondent: 15 minutes.

Frequency of Response: On occasion.

Estimated Total Reporting Burden: 250 hours.

OMB Number: 1512-0198.

Form Number: ATF F 5110.28.

Recordkeeping Requirement ID Number: ATF REC 5110/03.

Type of Review: Extension.

Title: Distilled Spirits Plant Monthly Report of Processing Operations.

Description: The information collected is necessary to account for and verify the processing of distilled spirits in bond. It is used to audit plant operations, and the compilation of statistics.

Respondents: Business or other for-profit, State, Local or Tribal Government.

Estimated Number of Respondents/Recordkeepers: 134.

Estimated Burden Hours Per Respondent/Recordkeeper: 2 hours.

Frequency of Response: Monthly.

Estimated Total Reporting/Recordkeeping Burden: 3,886 hours.

OMB Number: 1512-0500.

Form Number: ATF F 5630.5R and ATF F 5630.RC.

Type of Review: Extension.

Title: Special Tax Renewal Registration and Return/Special Tax Location Registration Listing.

Description: 26 U.S.C. Chapters 51, 52 and 53 authorize collection of special taxes from persons engaging in certain businesses. ATF Forms 5630.5R and 5630.5RC are used to compute tax and as an application for registry.

Respondents: Business or other for-profit.

Estimated Number of Respondents: 350,000.

Estimated Burden Hours Per Respondent: 15 minutes for each form.

Frequency of Response: Annually.

Estimated Total Reporting Burden: 100,500 hours.

Clearance Officer: Frank Bowers, (202) 927-8930, Bureau of Alcohol, Tobacco and Firearms, Room 3200, 650 Massachusetts Avenue, NW., Washington, DC 20226.

OMB Reviewer: Alexander T. Hunt, (202) 395-7860, Office of Management and Budget, Room 10202, New Executive Office Building, Washington, DC 20503.

Lois K. Holland,
Departmental Reports, Management Officer.

[FR Doc. 01-10959 Filed 5-1-01; 8:45 am]

BILLING CODE 4810-31-P